DEPARTMENT OF STATE

[Public Notice: 11709]

Office of the Chief of Protocol; Gifts to Federal Employees From Foreign Government Sources Reported to Employing Agencies in Calendar Year 2020

All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2020 concerning gifts received from foreign government sources. The compilation includes reports of both tangible gifts and gifts of travel or travel expenses of more than minimal value, as defined in 5 U.S.C. 7432 and GSA regulations. For calendar years 2020-2022 (January 1, 2020 through December 31, 2022), minimal value is $415.00.

Pursuant to title 22 of the Code of Federal Regulations section 3.4, the report includes all gifts given on a single occasion when the aggregate value of those gifts exceeds minimal value. Also included are gifts received in previous years including one from 2014, two from 2016, one from 2017, 12 from 2018, and 18 from 2019. These latter gifts are being reported in this year's report for calendar year 2020 because the Office of the Chief of Protocol, Department of State, did not receive the relevant information at the time of reporting to include them in earlier reports. Agencies not listed in this report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Publication of this listing in the Federal Register is required by Section 7342(f) of title 5, United States Code, as added by section 515(a)(1) of the Foreign Relations Authorization Act, Fiscal Year 1978 (Pub. L. 95-105, August 17, 1977, 91 stat. 865).

Dated: March 19, 2022.
John Bass,
Under Secretary for Management, U.S. Department of State.

Agency: The White House—Executive Office of the President ¹
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable H.R. McMaster, Assistant to the President and National Security Advisor | Afghan Carpet. Rec'd—Unknown. Est. Value—$980.00. Disposition—Transferred to GSA.² | His Excellency Tariq Bahrami, Acting Minister of Defense of the Islamic Republic of Afghanistan | Non-acceptance would cause embarrassment to donor and U.S. Government.
The Honorable H.R. McMaster, Assistant to the President and National Security Advisor | Carpet Rec'd—Unknown. Est. Value—$6,400.00. Disposition—Transferred to GSA.³ | His Excellency Shavkat Mirziyoyev, President of the Republic of Uzbekistan | Non-acceptance would cause embarrassment to donor and U.S. Government.
The Honorable H.R. McMaster, Assistant to the President and National Security Advisor | Cologne Collection. Rec'd—Unknown. Est. Value—$2,485.00. Disposition—Transferred to GSA.⁴ | Mr. Sayyid Munthi, Director, Omani Royal Liaison Coordination Service, Sultanate of Oman | Non-acceptance would cause embarrassment to donor and U.S. Government.
The Honorable Jared Kushner, Assistant to the President and Senior Advisor | Orange Robe. Rec'd—Unknown. Est. Value—$1,900.00. Disposition—Transferred to GSA.⁵ | His Royal Highness Mohammad bin Salman, Deputy Crown Prince and Second Deputy Prime Minister of the Kingdom of Saudi Arabia | Non-acceptance would cause embarrassment to donor and U.S. Government.
¹ The State Department's Office of the Chief of Protocol did not submit the request for data to all reporting agencies prior to January 20, 2021 (at which time there was a change in administrations). In addition, the Executive Office of the President did not, prior to that date, transmit to the Secretary of State a listing of all statements filed during the preceding year, 2020. As a result, the data required to fully compile a complete listing for 2020 is unavailable. The Office of the Chief of Protocol has since made attempts to collect the required data from the current authoritative sources, the National Archives and Records Administration (as to gifts for the President and the First Family) and the General Services Administration (as to gifts for the Vice President and Family and for White House staff), but it has confirmed that potentially relevant records are not available to the State Department's Office of the Chief of Protocol under applicable access rules for retired records of the Executive Office of the President and the Office of the Vice President.
² Gift was reported to the Office of the Chief of Protocol by the General Services Administration in accordance with Federal Management Regulation 102-42.135.
³ Gift was reported to the Office of the Chief of Protocol by the General Services Administration in accordance with Federal Management Regulation 102-42.135.
⁴ Gift was reported to the Office of the Chief of Protocol by the General Services Administration in accordance with Federal Management Regulation 102-42.135.
⁵ Gift was reported to the Office of the Chief of Protocol by the General Services Administration in accordance with Federal Management Regulation 102-42.135.

Agency: The Executive Office of the Vice President ⁶
[Report of Tangible Gifts Furnished by the Executive Office of the Vice President]
Name and title of person accepting the gift on behalf of the U.S. Government | Gift, date of acceptance on behalf of the U.S. Government, estimated value, and current disposition or location | Identity of foreign donor and government | Circumstances justifying acceptance
⁶ See footnote 1 above.

Agency: The Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Michael R. Pompeo, Secretary of State | Painting featuring Apples. Rec'd—6/25/2018. Est. Value—$1060.00. Disposition—Transferred to GSA. | His Excellency Filip Pavel, Prime Minister of the Republic of Moldova | Non-acceptance would cause embarrassment to donor and U.S. Government.
The Honorable Michael R. Pompeo, Secretary of State | Solar Boat Replica. Rec'd—1/10/2019. Est. Value—$445.00 Disposition—Transferred to GSA. | His Excellency Abbas Kamel, Director of the General Intelligence Service of the Arab Republic of Egypt | Non-acceptance would cause embarrassment to donor and U.S. Government.
The Honorable Michael R. Pompeo, Secretary of State | Animal Theme Carpet. Rec'd—11/22/2019. Est. Value—$6,000.00. Disposition—Transferred to GSA. | His Highness Sheikh Abdullah bin Zayed Al Nahyan, Minister of Foreign Affairs and International Cooperation of the United Arab Emirates | Non-acceptance would cause embarrassment to donor and U.S. Government.
The Honorable Michael R. Pompeo, Secretary of State | Wool Carpet. Rec'd—7/19/2020. Est. Value—$2,700.00. Disposition—Transferred to GSA. | His Excellency Mohammad Ashraf Ghani, President of the Islamic Republic of Afghanistan | Non-acceptance would cause embarrassment to donor and U.S. Government.
The Honorable Michael R. Pompeo, Secretary of State | Pilsner Scarf, Stein, and Framed Antique Map of Bohemia. Rec'd—8/11/2020. Est. Value—$455.00. Disposition—Purchased. | His Excellency Tomas Petricek, Minister of Foreign Affairs of the Czech Republic | Non-acceptance would cause embarrassment to donor and U.S. Government.
The Honorable Michael R. Pompeo, Secretary of State | Framed Painting Featuring a House. Rec'd 9/17/2020. Est. Value—$490.00. Disposition—Transferred to GSA. | His Excellency Mohamed Irfaan Ali, President of the Co-operative Republic of Guyana | Non-acceptance would cause embarrassment to donor and U.S. Government.
The Honorable Michael R. Pompeo, Secretary of State | Carved Wooden Chair. Rec'd—9/18/2020. Est. Value—$450.00. Disposition—Transferred to GSA. | His Excellency Albert Ramchand Ramdin, Minister of Foreign Affairs of the Republic of Suriname | Non-acceptance would cause embarrassment to donor and U.S. Government.
The Honorable Michael R. Pompeo, Secretary of State | Japanese Crystal Shot Glasses, Waterman Pen, and Challenge Coin. $470.00. Rec'd—9/24/2020. Disposition—Purchased. | His Excellency Shigeru Kitamura, Secretary General of the National Security Secretariat of Japan | Non-acceptance would cause embarrassment to donor and U.S. Government.
The Honorable Michael R. Pompeo, Secretary of State | Odessa Cobalt Gold Dish Set. Rec'd—10/26/2020. Est. Value—$2,200.00. Disposition—Transferred to GSA. | His Excellency Gotabaya Rajapaksa, President of the Democratic Socialist Republic of Sri Lanka | Non-acceptance would cause embarrassment to donor and U.S. Government.
The Honorable Michael R. Pompeo, Secretary of State | Hand-carved Wooden Maldivian Boat Model. Rec'd—10/28/2020. Est. Value—$1,100.00. Disposition—Transferred to GSA. | His Excellency Abdulla Shahid, Minister of Foreign Affairs of the Republic of Maldives | Non-acceptance would cause embarrassment to donor and U.S. Government.
The Honorable Michael R. Pompeo, Secretary of State | Painting Featuring Water's Edge. Rec'd—10/30/2020. Est. Value—$600.00. Disposition—Transferred to GSA. | His Excellency To Lam, Minister of Public Security of the Socialist Republic of Vietnam | Non-acceptance would cause embarrassment to donor and U.S. Government.
The Honorable Michael R. Pompeo, Secretary of State | Brass Tray and Family Photo of the Jordanian Royal Family. Rec'd—December 2020. Est. Value—$955.00. Disposition—Transferred to GSA. | His Majesty Abdullah II ibn Al Hussein, King of the Hashemite Kingdom of Jordan | Non-acceptance would cause embarrassment to donor and U.S. Government.
The Honorable Michael R. Pompeo, Secretary of State | Sword in Case. Rec'd—Unknown. Est. Value—$490.00. Disposition—Transferred to GSA. | Unknown ⁷. | Non-acceptance would cause embarrassment to donor and U.S. Government.
The Honorable John Sullivan, Deputy Secretary of State | Framed Embroidery of Eagles. Rec'd—10/4/2017. Est. Value—$600.00. Disposition—Transferred to GSA. | His Excellency Guo Shengkun, State Councilor of the People's Republic of China | Non-acceptance would cause embarrassment to donor and U.S. Government.
The Honorable Craig Allen, Ambassador of the United States to Brunei Darussalam | Watch with Roman Numerals. Rec'd—10/12/2018. Est. Value—$2,400.00. Disposition—Transferred to GSA. | His Majesty Sultan Haji Hassanal Bolkiah Mu'izzaddin Waddaulah, Sultan and Yang Di-Pertuan of Brunei Darussalam | Non-acceptance would cause embarrassment to donor and U.S. Government.
Ms. Micheline Tusenius, Spouse of the Ambassador of the United States to Brunei Darussalam | White Gold and Diamond Floral Bracelet. Rec'd—10/12/2018. Est. Value—$2,400.00. Disposition—Transferred to GSA. | Her Majesty Duli Raja Isteri Pengiran Anak Hajah Saleha binti Al-Marhum Pengiran Pemancha Pengiran Anak Haji Mohamed | Non-acceptance would cause embarrassment to donor and U.S. Government.
Ms. Micheline Tusenius, Spouse of the Ambassador of the United States to Brunei Darussalam | White Gold and Diamond Bracelet with Flowers. Rec'd—10/12/2018. Est. Value—$3,200.00. Disposition—Transferred to GSA. | Her Majesty Duli Raja Isteri Pengiran Anak Hajah Saleha binti Al-Marhum Pengiran Pemancha Pengiran Anak Haji Mohamed | Non-acceptance would cause embarrassment to donor and U.S. Government.
The Honorable Barbara Leaf, Ambassador of the United States to the United Arab Emirates | Leather Portfolio. Rec'd—9/25/2016. Est. Value—$800.00. Disposition—Transferred to GSA. | His Excellency Anwar Gargash, Minister of State for Foreign Affairs of the United Arab Emirates | Non-acceptance would cause embarrassment to donor and U.S. Government.
The Honorable Barbara Leaf, Ambassador of the United States to the United Arab Emirates | Pearl Necklace. Rec'd—03/18/2018. Est. Value—$600.00. Disposition—Transferred to GSA. | His Highness Sheikh Dr. Sultan bin Muhammad Al Qasimi, Ruler of the Emirate of Sharjah, United Arab Emirates | Non-acceptance would cause embarrassment to donor and U.S. Government.
The Honorable Barbara Leaf, Ambassador of the United States to the United Arab Emirates | Falcon Hood. Rec'd—3/18/2018. Est. Value—$1,100.00. Disposition—Transferred to GSA. | National Falcon Club, Ministry of Sports and Leisure of the United Arab Emirates | Non-acceptance would cause embarrassment to donor and U.S. Government.
The Honorable Barbara Leaf, Ambassador of the United States to the United Arab Emirates | White Gold and Turquoise Pendant. Rec'd—3/22/2018. Est. Value—$11,500.00. Disposition—Transferred to GSA. | Government of the United Arab Emirates | Non-acceptance would cause embarrassment to donor and U.S. Government.
The Honorable Michael Corbin, Ambassador of the United States to the United Arab Emirates | Louis Erard Watch and Baume and Mercier Watch. Rec'd—1/1/2014. Est. Value—$11,550.00. Disposition—Transferred to GSA. | Unknown ⁸ | Non-acceptance would cause embarrassment to donor and U.S. Government.
The Honorable Stuart Jones, Ambassador of the United States to the Republic of Iraq | Omega Watch. Rec'd—2016. Est. Value—$5,560.00. Disposition—Transferred to GSA. | Government of the Republic of Iraq | Non-acceptance would cause embarrassment to donor and U.S. Government.
The Honorable Sean Lawler, Chief of Protocol | Brass Footed Bowl. Rec'd—1/16/2018. Rec'd—$420.00. Disposition—Transferred to GSA. | His Excellency Nursultan Nazarbayev, President of the Republic of Kazakhstan | Non-acceptance would cause embarrassment to donor and U.S. Government.
The Honorable Sean Lawler, Chief of Protocol | Framed Art with Wooden Carved Colorful Frame. Rec'd—5/16/2018. Est. Value—$1,200.00. Disposition—Transferred to GSA. | His Excellency Shavkat Mirziyoyev, President of the Republic of Uzbekistan | Non-acceptance would cause embarrassment to donor and U.S. Government.
The Honorable Sean Lawler, Chief of Protocol | Silk Carpet. Rec'd—5/16/2018 Est. Value—$1,900.00. Disposition—Transferred to GSA. | His Excellency Javlon Vahhabor, Ambassador of the Republic of Uzbekistan to the United States | Non-acceptance would cause embarrassment to donor and U.S. Government.
The Honorable Sam Brownback, Ambassador-at-Large for International Religious Freedom | Brass Tea Set. Rec'd—1/7/2019. Est. Value—$620.00 Disposition—Transferred to GSA. | Embassy of the Republic of Uzbekistan | Non-acceptance would cause embarrassment to donor and U.S. Government.
Ms. Ericka Woodard, Spouse of the Chargé d'Affaires, U.S. Embassy Brunei Darussalam | Dolce and Gabbana Handbag. Rec'd—10/8/2018. Est. Value—$1,770.00. Disposition—Transferred to GSA. | Her Majesty the Duli Raja Isteri Pengiran Anak Hajah Saleha, Queen of Brunei Darussalam | Non-acceptance would cause embarrassment to donor and U.S. Government.
Ms. Gladys Boluda, Assistant Chief of Protocol for Diplomatic Affairs | White Decorative Box. Rec'd—5/13/2019. Est. Value—$485.00. Disposition—Transferred to GSA. | His Royal Highness Salman bin Hamad Al Khalifa, Crown Prince of the Kingdom of Bahrain | Non-acceptance would cause embarrassment to donor and U.S. Government.
Unknown | Montblanc Pen and Portfolio Set. Rec'd—Unknown. Est. Value—$500.00. Disposition—Transferred to GSA. | Unknown ⁹ | Non-acceptance would cause embarrassment to donor and U.S. Government.
Unknown | Large Carpet. Rec'd—Unknown. Est. Value—$8,700.00. Disposition—Transferred to GSA. | Unknown ¹⁰ | Non-acceptance would cause embarrassment to donor and U.S. Government.
Unknown | Round Silver Plate. Rec'd—Unknown. Est. Value—$1,120.00. Disposition—Transferred to GSA. | Unknown ¹¹ | Non-acceptance would cause embarrassment to donor and U.S. Government.
Unknown | Golf Putter. Rec'd—Unknown. Est. Value—$1,660.00. Disposition—Transferred to GSA. | Unknown ¹² | Non-acceptance would cause embarrassment
Unknown | Painting of Man Playing Flute. Rec'd—2019 Unknown. Est. Value—$1,100.00 Disposition—Transferred to GSA. | Unknown ¹³ | Non-acceptance would cause embarrassment to donor and U.S. Government.
Unknown | 1714 Map entitled “L'Abrvazo Citra et Vltra Gia delineato dal magini envovamente ampliato secondo lo stato presente Dato in Luce da Domenico de Rofsi de Dedicato All'Illmo Signore II Sigr Abate Girolamo Samminioti,” Rec'd—Unknown. Est. Value—$950.00. Disposition—Transferred to GSA. | Unknown ¹⁴ | Non-acceptance would cause embarrassment to donor and U.S. Government.
Unknown | Sand Art of a Man. Rec'd—Unknown. Est. Value—$1,200.00 Disposition—Transferred to GSA. | Unknown ¹⁵ | Non-acceptance would cause embarrassment to donor and U.S. Government.
⁷ The information is not available. The Department of State's Office of the Inspector General identified the lack of accurate recordkeeping pertaining to diplomatic gifts maintained by the Office of the Chief of Protocol's Gift Unit between January 20, 2017, and January 20, 2021 in Management Assistance Report ESP-22-01, 14 FAM. The gift has since been transferred to the General Services Administration as excess government property.
⁸ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
⁹ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹⁰ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹¹ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹² The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹³ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹⁴ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.
¹⁵ The information is not available. The Department of State's Office of the Inspector General identified the lack of accurate recordkeeping pertaining to diplomatic gifts maintained by the Office of the Chief of Protocol's Gift Unit between January 20, 2017 and January 20, 2021 in Management Assistance Report ESP-22-01, 14 FAM. The gift has since been transferred to the General Services Administration as excess government property.

Agency: Department of Commerce
[Report of Tangible Gifts Furnished by the Department of Commerce]
Name and title of person accepting the gift on behalf of the U.S. Government | Gift, date of acceptance on behalf of the U.S. Government, estimated value, and current disposition or location | Identity of foreign donor and government | Circumstances justifying acceptance
The Honorable Wilbur Ross, Secretary of Commerce | Carpet. Rec'd—unknown. Est. Value—$750.00. Disposition—Transferred to GSA.¹⁶ | His Excellency Shavkat Mirziyoyev, President of the Republic of Uzbekistan | Non-acceptance would cause embarrassment to donor and U.S. Government.
The Honorable Wilbur Ross, Secretary of Commerce | Jewelry Box. Rec'd—Unknown. Est. Value—$900.00. Disposition—Transferred to GSA.¹⁷ | Mrs. Ziroat Mirziyoyev, Spouse of the President of the Republic of Uzbekistan | Non-acceptance would cause embarrassment to donor and U.S. Government.
¹⁶ Gift was reported to the Office of the Chief of Protocol by the General Services Administration in accordance with Federal Management Regulation 102-42.135.
¹⁷ Gift was reported to the Office of the Chief of Protocol by the General Services Administration in accordance with Federal Management Regulation 102-42.135.

Agency: Board of Governors of the Federal Reserve System
[Report of Tangible Gifts Furnished by the Board of Governors of the Federal Reserve System]
Name and title of person accepting the gift on behalf of the U.S. Government | Gift, date of acceptance on behalf of the U.S. Government, estimated value, and current disposition or location | Identity of foreign donor and government | Circumstances justifying acceptance
The Honorable Randal Quarles, Vice Chair for Supervision of the Board of Governors of the Federal Reserve System | Second Edition Book AlUla, Three Saudi Arabian Royal Stamps, Commemorative Coin, Two Nameplates, Coffee Beans, Package of Dates, and a Bottle of Rose Water. Rec'd—11/22/2020. Est. Value—$1,124.27. Disposition—Pending. | Government of the Kingdom of Saudi Arabia | Non-acceptance would cause embarrassment to donor and U.S. Government.

Agency: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable Gina Haspel, Director, Central Intelligence Agency | Old Rare Advent Calendar and Holiday Picture. Rec'd—11/20/2020. Est. Value—$1,400.00. Disposition—On Official Display. | 5 U.S.C. 7342(f)(4) | Non-acceptance would cause embarrassment to donor and U.S. Government.
The Honorable Gina Haspel, Director, Central Intelligence Agency | Chocolate and Scotch. Rec'd—12/23/2020. Est. Value—$593.00. Disposition—Disposed. | 5 U.S.C. 7342(f)(4) | Non-acceptance would cause embarrassment to donor and U.S. Government.
An Agency Employee | 2′ x 4′ Carpet. Rec'd—6/7/2020. Est. Value—$1,200.00. Disposition—Pending Disposal. | 5 U.S.C. 7342(f)(4) | Non-acceptance would cause embarrassment to donor and U.S. Government.
An Agency Employee | Pistol in Painted Wooden Firearm Box. Rec'd—6/9/2020. Est. Value—$1,641.00. Disposition—On Official Display. | 5 U.S.C. 7342(f)(4) | Non-acceptance would cause embarrassment to donor and U.S. Government.
An Agency Employee | 18-karat Necklace with Name Engraving. Rec'd—6/17/2020. Est. Value—$1,000.00. Disposition—Pending Disposal. | 5 U.S.C. 7342(f)(4) | Non-acceptance would cause embarrassment to donor and U.S. Government.
An Agency Employee | Black and Silver Colored Chopard Ballpoint Pen. Rec'd—6/25/2020. Est. Value—$450.00. Disposition—Pending Disposal. | 5 U.S.C. 7342(f)(4) | Non-acceptance would cause embarrassment to donor and U.S. Government.
An Agency Employee | Ladies' Maurice Lacroix Watch in Stainless Steel and Yellow Gold. Rec'd—7/8/2020. Est. Value—$1,000.00. Disposition—Pending Disposal. | 5 U.S.C. 7342(f)(4) | Non-acceptance would cause embarrassment to donor and U.S. Government.
An Agency Employee | Maurice Lacroix Watch in Stainless Steel. Rec'd—7/7/2020. Est. Value—$815.00. Disposition—Pending Disposal. | 5 U.S.C. 7342(f)(4) | Non-acceptance would cause embarrassment to donor and U.S. Government.
An Agency Employee | Ladies' Maurice Lacroix Watch in Stainless Steel and Yellow Gold. Rec'd—7/12/2020. Est. Value—$1,000.00. Disposition—Pending Disposal. | 5 U.S.C. 7342(f)(4) | Non-acceptance would cause embarrassment to donor and U.S. Government.
An Agency Employee | Men's Maurice Lacroix Watch in Stainless Steel. Rec'd—7/8/2020. Est. Value—$1,000.00. Disposition—Pending Disposal. | 5 U.S.C. 7342(f)(4) | Non-acceptance would cause embarrassment to donor and U.S. Government.
An Agency Employee | Corum Admiral's Cup Legend 42 Watch. Rec'd—7/15/2020. Est. Value—$2,250.00. Disposition—Pending Disposal. | 5 U.S.C. 7342(f)(4) | Non-acceptance would cause embarrassment to donor and U.S. Government.
An Agency Employee | Delvaux Pin Mini Bucket Taurillin Soft Surpique Red Leather Handbag. Rec'd—7/14/2020. Est. Value—$2,050.00. Disposition—Pending Disposal. | 5 U.S.C. 7342(f)(4) | Non-acceptance would cause embarrassment to donor and U.S. Government.
An Agency Employee | Tiddot T-Touch Watch. Rec'd—7/20/2020. Est. Value—$1,150.00. Disposition—Pending Disposal. | 5 U.S.C. 7342(f)(4) | Non-acceptance would cause embarrassment to donor and U.S. Government.
An Agency Employee | Tactical Wristwatch. Rec'd—8/24/2020. Est. Value—$1,075.00. Disposition—Pending Disposal. | 5 U.S.C. 7342(f)(4) | Non-acceptance would cause embarrassment to donor and U.S. Government.
An Agency Employee | Garmin Watch. Rec'd—8/27/2020. Est. Value—$550.00. Disposition—Pending Disposal. | 5 U.S.C. 7342(f)(4) | Non-acceptance would cause embarrassment to donor and U.S. Government.
An Agency Employee | Victorniox Watch. Rec'd—9/9/2020. Est. Value—$650.00. Disposition—Pending Disposal. | 5 U.S.C. 7342(f)(4) | Non-acceptance would cause embarrassment to donor and U.S. Government.
An Agency Employee | Longines Watch and Spa Gift Certificate. Rec'd—9/9/2020. Est. Value—$1,827.00. Disposition—Pending Disposal. | 5 U.S.C. 7342(f)(4) | Non-acceptance would cause embarrassment to donor and U.S. Government.
An Agency Employee | Carpet, Local Products, Wool Prayer Carpet, Tissot Watch, and Plaque. Rec'd—3/21/2019. Est. Value—$650.00. Disposition—Pending Disposal. | 5 U.S.C. 7342(f)(4) | Non-acceptance would cause embarrassment to donor and U.S. Government.
An Agency Employee | Longines Watch, Local Products, Coffee Table Book, and Necklace. Rec'd—9/29/2020. Est. Value—$2,100.00. Disposition—Pending Disposal. | 5 U.S.C. 7342(f)(4) | Non-acceptance would cause embarrassment to donor and U.S. Government.
An Agency Employee | 39mm Watch with Rose Gold Case. Rec'd—6/10/2020. Est. Value—$636.00. Disposition—Pending Disposal. | 5 U.S.C. 7342(f)(4) | Non-acceptance would cause embarrassment to donor and U.S. Government.

Agency: The Department of Defense
[Report of Tangible Gifts Furnished by the Department of the Defense]
Name and title of person accepting the gift on behalf of the U.S. Government | Gift, date of acceptance on behalf of the U.S. Government, estimated value, and current disposition or location | Identity of foreign donor and government | Circumstances justifying acceptance
The Honorable Mark T. Esper, Secretary of Defense | Lapis Lazuli Bowl. Rec'd—2/12/2019. Est. Value—$780.00. Disposition—Pending Transfer to GSA. | His Excellency Mohammad Ashraf Ghani, President of the Islamic Republic of Afghanistan | Non-acceptance would cause embarrassment to donor and U.S. Government.
The Honorable Mark T. Esper, Secretary of Defense | Brown Leather Photo Album, Dagger in Sheath of Silver, and Leather Jewelry Box. Rec'd—8/5/2020. Est. Value—$1,400.00. Disposition—Pending Transfer to GSA. | His Excellency Abdelmajid Tebbourne, President of the People's Democratic Republic of Algeria | Non-acceptance would cause embarrassment to donor and U.S. Government.
The Honorable Mark T. Esper, Secretary of Defense | Plaque featuring Stone Mosaic, Plaque Depicting Crossed Sabers/Anchor/Bird, Book, The Splendours of Tunisian Mosaics, and Book, Image in Stone: Tunisia in Mosaic. Rec'd—8/5/2020. Est. Value—$475.00. Disposition—Pentagon Gift Locker. | His Excellency Ibrahim Bartagi, Minister of Defense of the Republic of Tunisia | Non-acceptance would cause embarrassment to donor and U.S. Government.
The Honorable Mark T. Esper, Secretary of Defense | Bamboo Fan on Display Stand, Two Face Masks, and Sword with Black Lacquered Sheath in Display Case. Rec'd—9/25/2020. Est. Value—$482.00. Disposition Transferred to GSA. | His Excellency Suh Wook, Minister of Defense of the Republic of South Korea | Non-acceptance would cause embarrassment to donor and U.S. Government.
The Honorable Mark T. Esper, Secretary of Defense | Painting Depicting Men with Spears Galloping on Horseback and Table Linen Set. Rec'd—8/5/2020. Est. Value—$1,920.00. Disposition—Transferred to GSA. | His Excellency Abdellatif Loudiyi, Minister Delegate for the Moroccan National Defense Administration, Kingdom of Morocco | Non-acceptance would cause embarrassment to donor and U.S. Government.
The Honorable Mark T. Esper, Secretary of Defense | Handwoven Carpet and Six Bottles of Fragrant Oils in Brown Leather Presentation Box. Rec'd—8/5/2020. Est. Value—$760.00. Disposition—Pending Transfer to GSA. | His Excellency Nasser Bourita, Minister of Foreign Affairs and International Cooperation of the Kingdom of Morocco | Non-acceptance would cause embarrassment to donor and U.S. Government.
The Honorable Mark T. Esper, Secretary of Defense | Sword Ornamented with Gemstones with Presentation Box and Plaque. Rec'd—10/16/2020. Est. Value—$9,090.00. Disposition—Pending Transfer to GSA | His Excellency Prabowo Subianto, Minister of Defense Republic of Indonesia | Non-acceptance would cause embarrassment to donor and U.S. Government.
The Honorable Mark T. Esper, Secretary of Defense | Women's Rolex Watch and West End Watch Company Watch. Rec'd—10/29/2020. Est. Value—$9,390.00. Disposition—Transferred to GSA. | His Excellency Khalifa bin Ahmed Al Khalifa, Commander and Chief of Bahrain Defense Forces, Kingdom of Bahrain | Non-acceptance would cause embarrassment to donor and U.S. Government.
The Honorable Mark T. Esper, Secretary of Defense | Plaque, Polychrome Photos, and Sabre in Leather Carrying Case. Rec'd—10/28/2020. Est. Value—$1,410.00 Disposition- Transferred to GSA. | His Excellency Khalifa bin Ahmed Al Khalifa, Commander and Chief of Bahrain Defense Forces (Field Marshal), Kingdom of Bahrain | Non-acceptance would cause embarrassment to donor and U.S. Government.
The Honorable Mark T. Esper, Secretary of Defense | Lapis Lazuli Bowl. Rec'd -2/12/2019. Est. Value—$780.00. Disposition—PeTransfer to GSA. | His Excellency Mohammad Ashraf Ghani, President, Islamic Republic of Afghanistan | Non-acceptance would cause embarrassment to donor and U.S. Government.
The Honorable Christopher C. Miller, Acting Secretary of Defense | Bottle of Royal Elite Supreme Vodka, Bottle of Toshbentrino Uzbekistan Collection Cognac, Chesnut and Onyx Chess set. Rec'd—11/19/2020. Est. Value—$1,051.00. Disposition—Office of the Secretary of Defense Gift Locker, Pending Transfer to GSA. | His Excellency Abdulaziz Kamilov, Ambassador of the Republic of Uzbekistan to the United States | Non-acceptance would cause embarrassment to donor and U.S. Government.
The Honorable Christopher C. Miller, Acting Secretary of Defense | Black Walnut Plaque, Two Photographs in Glass Frames, Sword Ornamented with Semiprecious Stones. Rec'd—12/7/2020. Est. Value—$2,855.00. Disposition—Office of the Secretary of Defense Gift Locker. | His Excellency Prabowo Subianto, Minister of Defense of the Republic of Indonesia | Non-acceptance would cause embarrassment to donor and U.S. Government.
General Mark A. Milley, Chairman of the Joint Chiefs of Staff | Red Clay Jar Accompanied by Certificate stating “1550 B.C.E.—1200 B.C.E. Late Bronze Age” on Base. Rec'd—1/27/2020. Est. Value—$420.00. Disposition—On Official Display. | His Excellency Aviv Kochavi, Chief of Staff of the Israeli Defense Forces | Non-acceptance would cause embarrassment to donor and U.S. Government.
Major Gen. Daniel J. Caine, Deputy Commander of the Special Operations Joint Task Force | Men's Longines Watch. Rec'd—5/18/2019. Est. Value—$1,000.00. Disposition—Pending Transfer to GSA. | General Talib Shaghati Mshari al Kenani, Commander, Iraqi Counter-Terrorism Service, Republic of Iraq | Non-acceptance would cause embarrassment to donor and U.S. Government.
The Honorable Ellen Lord, Under Secretary of Defense for Acquisition and Sustainment | Sandalwood Carving depicting Two Walking Elephants and a Lion, 8-¾″h, in Red Velveteen Flock Presentation Box. Rec'd—10/24/2019. Est. Value—$820.00. Disposition—Pending Transfer to GSA. | Mr. S. Raghuram, Political Counsellor, Head of Chancery, Embassy of the Republic of India | Non-acceptance would cause embarrassment to donor and U.S. Government.
The Honorable Ellen Lord, Under Secretary of Defense for Acquisition and Sustainment | Sandalwood Carving Depicting Walking Elephant with Two Lions Chasing Horned Animal, in Red Velveteen Flock Presentation Box. Rec'd—10/24/2019. Est. Value—$800.00. Disposition—Pending Transfer to GSA. | Mr. S. Raghuram, Political Counsellor, Head of Chancery, Embassy of the Republic of India | Non-acceptance would cause embarrassment to donor and U.S. Government.

Agency: The Department of the Air Force
[Report of Tangible Gifts Furnished by the Department of Air Force]
Name and title of person accepting the gift on behalf of the U.S. Government | Gift, date of acceptance on behalf of the U.S. Government, estimated value, and current disposition or location | Identity of foreign donor and government | Circumstances justifying acceptance
The Honorable Barbara Barrett, Secretary of the Air Force | Large Box of Dates. Rec'd—7/15/2021, Est. Value—$640.34. Disposition—Purchased from GSA. | Her Royal Highness Princess Reema bint Bandar bin Sultan bin Abdulaziz Al Saud, Ambassador of the Kingdom of Saudi Arabia to the United States | Non-acceptance would cause embarrassment to donor and U.S. Government.

Agency: The Department of Army
[Report of Tangible Gifts Furnished by the Department of Army]
Name and title of person accepting the gift on behalf of the U.S. Government | Gift, date of acceptance on behalf of the U.S. Government, estimated value, and current disposition or location | Identity of foreign donor and government | Circumstances justifying acceptance
Captain Quade Sherwood, Company Commander, Headquarters and Headquarters Company, 2-22 Infantry, 1BCT, 10th MTN Division (LI) | 82MM Mortar System with Bipod and Base Plate. Rec'd—8/8/2020. Est. Value—$1,229.00. Disposition—On official display. | Brigadier General Mohammad Karim Neyazi, Commander, 4th Division, 201st Corps, Afghan National Army, Islamic Republic of Afghanistan | Non-acceptance would cause embarrassment to donor and U.S. Government.
Colonel (P), IN Trevor J. Brendenkamp, Commanding, Train, Advice, Assist Command, South Headquarters, Combined Joint Task Force | Traditional Afghan Carpet. Rec'd—12/14/2019. Est. Value—$495.00. Disposition—On official display. | Mr. Shah Wali Karzai, Popolzai Tribal Leader, Islamic Republic of Afghanistan | Non-acceptance would cause embarrassment to donor and U.S. Government.
Lieutenant General Paul E. Funk II, Commander, Combined Joint Task Force-Operation Inherent Resolve and III Corps | Collapsible AK-47 Machine Gun. Rec'd—9/12/2018. Est. Value—$1,164.00. Disposition—On official display. | Lieutenant General Najah al-Shimmari, Inspector General for the Iraqi Army, Republic of Iraq | Non-acceptance would cause embarrassment to donor and U.S. Government.
Lieutenant Darryl A. Williams, Superintendent, United States Military Academy | 18 Piece Jezzine Cutlery Set in Wooden Box. Rec'd—9/25/2019. Disposition—On official display. | His Excellency Gebran Bassil, Minister of Foreign Affairs and Emigrants for the Republic of Lebanon | Non-acceptance would cause embarrassment to donor and U.S. Government.

Agency: The Department of Navy
[Report of Tangible Gifts Furnished by the Department of Navy]
Name and title of person accepting the gift on behalf of the U.S. Government | Gift, date of acceptance on behalf of the U.S. Government, estimated value, and current disposition or location | Identity of foreign donor and government | Circumstances justifying acceptance
Vice Admiral James Malloy, United States Navy, Commander, U.S. Naval Forces Central Command, U.S. Fifth Fleet, Combined Maritime Forces | Jewelry of Gold-tone Necklace, Ring, and Earrings. Rec'd—8/21/2020. Est. Value—$424.40. Disposition—Transferred to GSA. | Commodore Mohammed Al Asam, Commander, Bahraini Royal Navy, Kingdom of Bahrain | Non-acceptance would cause embarrassment to donor and U.S. Government.
Vice Admiral James Malloy, United States Navy, Commander, U.S. Naval Forces Central Command, U.S. Fifth Fleet, Combined Maritime Forces | West End Men's Wristwatch. Rec'd—8/17/2020. Est. Value—$795.00. Disposition—Transferred to GSA. | Shaikh Khalifa bin Ahmed Al Khalifa, Commander-in-Chief, Bahrain Defense Force, Kingdom of Bahrain | Non-acceptance would cause embarrassment to donor and U.S. Government.
Vice Admiral James Malloy, United States Navy, Commander, U.S. Naval Forces Central Command, U.S. Fifth Fleet, Combined Maritime Forces | West End Men's Wristwatch. Rec'd—8/17/2020. Est. Value—$795.00. Disposition—Transferred to GSA. | Shaikh Khalifa bin Ahmed Al Khalifa, Commander-in-Chief, Bahrain Defense Force, Kingdom of Bahrain | Non-acceptance would cause embarrassment to donor and U.S. Government.
Vice Admiral James Malloy, United States Navy, Commander, U.S. Naval Forces Central Command, U.S. Fifth Fleet, Combined Maritime Forces | Rifle. Rec'd—8/17/2020. Est. Value—$1,999.00. Disposition—On Official Display. | Shaikh Khalifa bin Ahmed Al Khalifa, Commander-in-Chief, Bahrain Defense Force, Kingdom of Bahrain | Non-acceptance would cause embarrassment to donor and U.S. Government.
Vice Admiral James Malloy, United States Navy, Commander, U.S. Naval Forces Central Command, U.S. Fifth Fleet, Combined Maritime Forces | Aimpoint Micro T-1. Rec'd—8/17/2020. Est. Value—$695.00. Disposition—On Official Display. | Shaikh Khalifa bin Ahmed Al Khalifa, Commander-in-Chief, Bahrain Defense Force, Kingdom of Bahrain | Non-acceptance would cause embarrassment to donor and U.S. Government.
Vice Admiral James Malloy, United States Navy, Commander, U.S. Naval Forces Central Command, U.S. Fifth Fleet, Combined Maritime Forces | Rifle Suppressor. Rec'd—8/17/2020. Est. Value—$770.18. Disposition—On Official Display. | Shaikh Khalifa bin Ahmed Al Khalifa, Commander-in-Chief, Bahrain Defense Force, Kingdom of Bahrain | Non-acceptance would cause embarrassment to donor and U.S. Government.
Vice Admiral James Malloy, United States Navy, Commander, U.S. Naval Forces Central Command, U.S. Fifth Fleet, Combined Maritime Forces | One Men's Police Wristwatch, One Women's Wristwatch. Rec'd—11/12/2019. Est. Value—$241.33. Disposition—Transferred to GSA. | Rear Admiral Abdullah Al-Shammari, Deputy Commander of Royal Saudi Arabia Naval Forces, Kingdom of Saudi Arabia | Non-acceptance would cause embarrassment to donor and U.S. Government.
Vice Admiral James Malloy, United States Navy, Commander, U.S. Naval Forces Central Command, U.S. Fifth Fleet, Combined Maritime Forces | Designer Shaik Arabian Gold Edition Perfume for Women. Rec'd—11/12/2019. Est. Value—$236.03. Disposition—Transferred to GSA. | Rear Admiral Adbullah Al-Shammari, Deputy Commander of Royal Saudi Arabia Naval Forces, Kingdom of Saudi Arabia | Non-acceptance would cause embarrassment to donor and U.S. Government.
Vice Admiral James Malloy, United States Navy, Commander, U.S. Naval Forces Central Command, U.S. Fifth Fleet, Combined Maritime Forces | Designer Shaik Arabian Gold Edition Perfume for Men. Rec'd—11/12/2019. Est. Value—$198.00. Disposition—Transferred to GSA. | Rear Admiral Abdullah Al-Shammari, Deputy Commander of Royal Saudi Arabia Naval Forces, Kingdom of Saudi Arabia | Non-acceptance would cause embarrassment to donor and U.S. Government.

Agency: The Environmental Protection Agency
[Report of Tangible Gifts Furnished by the Environmental Protection Agency]
Name and title of person accepting the gift on behalf of the U.S. Government | Gift, date of acceptance on behalf of the U.S. Government, estimated value, and current disposition or location | Identity of foreign donor and government | Circumstances justifying acceptance
Mr. Matthew Crowley, Biologist, Chemistry and Exposure Branch, Health Effects Division, Office of Chemical Safety and Pollution Prevention, Office of Pesticide Programs | GIFT OF TRAVEL Including hotel cost, ground transportation, meals and incidentals while in Ottawa, Canada. Rec'd—3/2/2020-3/5/2020. Est. Value—$748.00. | Ms. Connie Moase, Director of Health Evaluation Directorate, Pesticide Management Regulatory Agency of Canada | Non-acceptance would cause embarrassment to donor and U.S. Government.
Mr. Jeffrey L. Dawson, Senior Scientist, Office of the Director, Office of Chemical Safety and Pollution Prevention, Office of Pesticide Programs | GIFT OF TRAVEL Including hotel cost, meals, and currency conversion while in Ottawa, Canada. Rec'd—3/2/2020-3/5/2020. Est. Value—$588.13. | Ms. Connie Moase, Director of Health Evaluation Directorate, Pesticide Management Regulatory Agency of Canada | Non-acceptance would cause embarrassment to donor and U.S. Government.
Mr. Michael Doherty, Chemist | GIFT OF TRAVEL Including lodging and meals, transportation, and incidental expenses while in Santiago, Chile. Rec'd—1/22/20. Est. Value—$588.13. | Food and Agriculture Organization of the United Nations | Non-acceptance would cause embarrassment to donor and U.S. Government.
Dr. Thomas Luben, Senior Epidemiologist, Center for Public Health and Environmental Assessment, Office of Research and Development | GIFT OF TRAVEL Including meals, local transportation and incidental expenses while in Bonn, Germany. Rec'd—2/2/2020-2/7/2020. Est. Value—$704.00. | European Centre for Environment and Health, World Health Organization | Non-acceptance would cause embarrassment to donor and U.S. Government.

Agency: U.S. International Development Finance Corporation
[Report of Tangible Gifts Furnished by the U.S. International Development Finance Corporation]
Name and title of person accepting the gift on behalf of the U.S. Government | Gift, date of acceptance on behalf of the U.S. Government, estimated value, and current disposition or location | Identity of foreign donor and government | Circumstances justifying acceptance
The Honorable Adam Boehler, Chief Executive Officer | 510 Cloth Face Masks. Rec'd—6/2/2020. Est. Value—$510.00. Disposition—Facilities Office for Official Use. | His Excellency Ha Kim Ngoc, Ambassador of the Socialist Republic of Vietnam to the United States | Non-acceptance would cause embarrassment to donor and U.S. Government.
The Honorable Adam Boehler, Chief Executive Officer | Leather-bound Book Serbia the Golden Apple. Rec'd—9/22/2020. Est. Value—$437.00. Disposition—Purchased from GSA. | His Excellency Aleksandar Vučić, President of the Republic of Serbia | Non-acceptance would cause embarrassment to donor and U.S. Government.
The Honorable Adam Boehler, Chief Executive Officer | Carpet, Silver Chest filled with Pastries, and Cosmetic Oils in Box. Rec'd—9/28/2020. Est. Value—$683.00. Disposition—Silver Chest Purchased from GSA, Others at Facilities Office for Official Use. | His Excellency Nasser Bourita, Minister of Foreign Affairs of the Kingdom of Morocco | Non-acceptance would cause embarrassment to donor and U.S. Government.
The Honorable Adam Boehler, Chief Executive Officer | GIFT OF TRAVEL Helicopter tour of Patimban Port. Rec'd—10/25/2020. Est. Value—$590.00. | His Excellency Luhut Binsar Pandjatan, Coordinating Minister for Maritime and Investments Affairs of the Republic of Indonesia | Non-acceptance would cause embarrassment to donor and U.S. Government.

Agency: The National Science Foundation
[Report of Tangible Gifts Furnished by the National Science Foundation]
Name and title of person accepting the gift on behalf of the U.S. Government | Gift, date of acceptance on behalf of the U.S. Government, estimated value, and current disposition or location | Identity of foreign donor and government | Circumstances justifying acceptance
Mr. Christopher L. Hill, Program Director, Division of Graduate Education | Gift of Travel to Egypt. Rec'd—10/13/2019—11/1/2019. Est. Value—$738.50. | National Science Centre, Republic of Poland | Non-acceptance would cause embarrassment to donor and U.S. Government.

Agency: United States Senate
[Report of Tangible Gifts Furnished by the United States Senate]
Name and title of person accepting the gift on behalf of the U.S. Government | Gift, date of acceptance on behalf of the U.S. Government, estimated value, and current disposition or location | Identity of foreign donor and government | Circumstances justifying acceptance
The Honorable Maggie Hassan, United States Senator | Ruby Necklace and Blue and White Hand-woven Carpet. Rec'd 10/5/2019. Est. Value—$480.00. Disposition—Secretary of the Senate. | General Qamar Javed Bajwa, Chief of Army Staff of the Pakistan Army | Non-acceptance would cause embarrassment to donor and U.S. Government.
The Honorable Chuck Grassley, United States Senator | Overture Napa Valley Red Wine. Rec'd—1/27/2020. Est. Value—$129.00. Disposition—Secretary of the Senate | His Excellency Lee Soo-hyuck, Ambassador of the Republic of Korea to the United States | Non-acceptance would cause embarrassment to donor and U.S. Government.
The Honorable Jack Reed, United States Senator | Decorated Box with the Saegimsori Seal, Containing Stamp and Seal Rec'd—1/23/2020. Est. Value—$100.00. Disposition—Secretary of the Senate. | His Excellency Lee Soo-hyuck, Ambassador of the Republic of Korea to the United States | Non-acceptance would cause embarrassment to donor and U.S. Government.

Agency: Department of Veterans Affairs
[Report of Travel and Report of Tangible Gifts Furnished by the Department of Veterans Affairs]
Name and title of person accepting the gift on behalf of the U.S. Government | Gift, date of acceptance on behalf of the U.S. Government, estimated value, and current disposition or location | Identity of foreign donor and government | Circumstances justifying acceptance
The Honorable Robert Wilkie, Secretary of Veterans Affairs | Wooden Hand Carved Storyboard. Rec'd—1/17/20. Est. Value—$500.00. Disposition—VA History Center. | His Excellency Raynold Oilouch, Vice President of Palau | Non-acceptance would cause embarrassment to donor and U.S. Government.

[FR Doc. 2022-07641 Filed 4-8-22; 8:45 am]

BILLING CODE 4710-20-P